DEPARTMENT OF AGRICULTURE

Forest Service

Meeting of the Land Between The Lakes Advisory Board

AGENCY: Forest Service, USDA.

ACTION: Notice of meeting.

SUMMARY: The Land Between The Lakes Advisory Board will hold a meeting on November 3, 2011. Notice of this meeting is given under the Federal Advisory Committee Act, 5 U.S.C. App 2. The meeting agenda will focus on existing Environmental Education programs and improving engagement with regional school groups. The meeting is open to the public. Written comments are invited and should be sent to William P. Lisowsky, Area Supervisor, Land Between The Lakes, 100 Van Morgan Drive, Golden Pond, KY, 42211 and must be received by October 27, 2011 in order for copies to be provided to the members for this meeting. Board members will review written comments received, and at their request, oral clarification may be requested for a future meeting.

DATES: The meeting will be held Thursday, November 3, 2011 from 9 a.m. to approximately 4 p.m. C.S.T.

ADDRESSES: The meeting will be held at Land Between The Lakes at the Brandon Spring Group Center, 236 Brandon Spring Road, Dover, TN 37058.

FOR FURTHER INFORMATION CONTACT: Linda L. Taylor, Advisory Board Liaison, Land Between The Lakes, 100 Van Morgan Drive, Golden Pond, KY 42211, 270-924-2002. Individuals who use telecommunication devices for the deaf (TDD) may call the Federal Information Relay Service (FIRS) at 1-800-877-8339. This service is available 7 days a week, 24 hours a day.

SUPPLEMENTARY INFORMATION: The meeting is open to the public. Board discussion is limited to Forest Service staff and Board members.

Dated: September 15, 2011.
William P. Lisowsky,
Area Supervisor, Land Between The Lakes.

[FR Doc. 2011-25757 Filed 10-12-11; 8:45 am]

BILLING CODE 3410-11-P